DEPARTMENT OF HOMELAND SECURITY

Coast Guard

33 CFR Part 117

[Docket No. USCG-2014-0561]

Drawbridge Operation Regulation; Mill River, New Haven, CT

AGENCY: Coast Guard, DHS.

ACTION: Notice of deviation from drawbridge regulation.

SUMMARY: The Coast Guard has issued a temporary deviation from the operating schedule that governs the Chapel Street Bridge across the Mill River, mile 0.4, at New Haven, Connecticut. The deviation is necessary for inspection of the center pivot bearing at the bridge. This temporary deviation allows the bridge to remain in the closed position for twelve hours to perform bridge inspection operations.

DATES: This deviation is effective from 7 a.m. through 7 p.m. on August 18, 2014.

ADDRESSES: The docket for this deviation, [USCG-2014-0561] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Chapel Street Bridge has a vertical clearance of 7 feet at mean high water and 13 feet at mean low water. The existing drawbridge operating regulations are found at 33 CFR 117.213(d).

The Mill River has seasonal recreational and commercial vessels of various sizes.

The owner of the bridge, the City of New Haven, requested a bridge closure to facilitate inspection of the pivot bearing at the bridge.

Under this temporary deviation, the Chapel Street Bridge may remain in the closed position from 7 a.m. through 7 p.m. on August 6, 2014.

Vessels that can pass under the bridge in the closed position may do so at all times. There are no alternate routes. The bridge can be opened in the event of an emergency during this bridge inspection.

In accordance with 33 CFR 117.35(e), the drawbridge must return to its regular operating schedule immediately at the end of the effective period of this temporary deviation. This deviation from the operating regulations is authorized under 33 CFR 117.35.

Dated: July 2, 2014.
C.J. Bisignano,
Supervisory Bridge Management Specialist, First Coast Guard District.

[FR Doc. 2014-16602 Filed 7-14-14; 8:45 am]

BILLING CODE 9110-04-P